DEPARTMENT OF COMMERCE

Foreign-Trade Zones Board

[B-17-2024]

Foreign-Trade Zone (FTZ) 21, Notification of Proposed Production Activity; Patheon API Inc.; (Pharmaceutical Products); Florence, South Carolina

Patheon API Inc. submitted a notification of proposed production activity to the FTZ Board (the Board) for its facilities in Florence, South Carolina, within Subzone 21J. The notification conforming to the requirements of the Board's regulations (15 CFR 400.22) was received on April 26, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: oseltamivir phosphate—active pharmaceutical ingredient (API); benserazide hydrochloric acid (Parkinson's Disease finished drug); AMG 510 API; capecitabine API; MSBA-30K (methyl succinimidyl butanoic acid 30 kilodalton) API; and, PEG2-NHS (PEGinterferon with N-hyroxysuccinate) finished drug (duty rate ranges from duty-free to 6.5%).

The proposed foreign-status materials and components include: resorcinol; ethyl alcohol (specifically denatured alcohol); ethyl acetate; hydrogen; hydrochloric acid; silica gel pack; sodium hydroxide solid and in solution; sodium hydroxide; copper II sulfate pentahydrate; palladium (catalyst); N-heptane; methylene chloride, unpreserved; methanol; benzaldehyde; pyrogallolaldehyde; glacial acetic acid; N-pentylchloroformate; 2-Bromo-5-hydroxybenzoic acid; DL-serine hydrazide hydrochloride; pyridine, 99.5%; aminofuranoside; capecitabine API; sodium bicarbonate; fiber drum (cardboard); drum (high density polyethylene); drum (steel); and, drum jet ring (steel) (duty rate ranges from duty-free to 5.8%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is June 12, 2024.

A copy of the notification will be available for public inspection in the “Online FTZ Information System” section of the Board's website.

For further information, contact Diane Finver at Diane.Finver@trade.gov.

Dated: April 30, 2024.
Elizabeth Whiteman,
Executive Secretary.

[FR Doc. 2024-09659 Filed 5-2-24; 8:45 am]

BILLING CODE 3510-DS-P